DEPARTMENT OF EDUCATION

Notice of Submission for OMB Review

AGENCY: Department of Education.

ACTION: Comment request.

SUMMARY: The Director, Information Collection Clearance Division, Regulatory Information Management Services, Office of Management invites comments on the submission for OMB review as required by the Paperwork Reduction Act of 1995 (Pub. L. 104-13).

DATES: Interested persons are invited to submit comments on or before February 28, 2011.

ADDRESSES: Written comments should be addressed to the Office of Information and Regulatory Affairs, Attention: Education Desk Officer, Office of Management and Budget, 725 17th Street, NW., Room 10222, New Executive Office Building, Washington, DC 20503, be faxed to (202) 395-5806 or e-mailed to oira_submission@omb.eop.gov with a cc: to ICDocketMgr@ed.gov. Please note that written comments received in response to this notice will be considered public records.

SUPPLEMENTARY INFORMATION: Section 3506 of the Paperwork Reduction Act of 1995 (44 U.S.C. Chapter 35) requires that the Office of Management and Budget (OMB) provide interested Federal agencies and the public an early opportunity to comment on information collection requests. The OMB is particularly interested in comments which: (1) Evaluate whether the proposed collection of information is necessary for the proper performance of the functions of the agency, including whether the information will have practical utility; (2) evaluate the accuracy of the agency's estimate of the burden of the proposed collection of information, including the validity of the methodology and assumptions used; (3) enhance the quality, utility, and clarity of the information to be collected; and (4) minimize the burden of the collection of information on those who are to respond, including through the use of appropriate automated, electronic, mechanical, or other technological collection techniques or other forms of information technology.

Dated: January 24, 2011.
Darrin A. King,
Director, Information Collection Clearance Division, Regulatory Information Management Services, Office of Management.

Office of Elementary and Secondary Education

Type of Review: New.

Title of Collection: Striving Readers Comprehensive Literacy Discretionary Grants.

OMB Control Number: Pending.

Agency Form Number(s): N/A.

Frequency of Responses: Once.

Affected Public: State, Local, or Tribal Government, State Educational Agencies or Local Educational Agencies.

Total Estimated Number of Annual Responses: 48.

Total Estimated Annual Burden Hours: 9,600.

Abstract: The Striving Readers Comprehensive Literacy program is authorized as part of the FY 2010 Consolidated Appropriations Act (Pub. L. 111-117) under the Title I demonstration authority (Part E, Section 1502 of the Elementary and Secondary Education Act (ESEA)). The FY 2010 Appropriations Act provides $200 million for a comprehensive literacy development and education program to advance literacy skills for students from birth through grade 12. The Act reserves eighty-nine percent of the funds ($178,000,000) for discretionary grants made to State educational agencies for the purpose of the States making subgrants to Local educational agencies or other nonprofit providers of early childhood education. Priority shall be given to agencies or other entities serving greater numbers or percentages of disadvantaged children. The legislation aims to advance the literacy skills, including pre-literacy skills, reading, and writing, for children from birth through grade 12 including limited-English-proficient students and students with disabilities. States must ensure that the funding is divided with at least fifteen percent of the subgranted funds serving children from birth through age five, forty percent of the funds used to serve students in kindergarten through grade five, and forty percent of the funds used to serve students in grades six through twelve including an equitable distribution of funds between middle and high schools.

This request includes information collection activities covered under the Paperwork Reduction Act (PRA). The data collected will be used by application reviewers to determine the State's proposed quality of State-level activities, the proposed quality of the State subgrant competition, the proposed project management, and the adequacy of the proposed resources requested in the application.

This information collection is being submitted under the Streamlined Clearance Process for Discretionary Grant Information Collections (1894-0001). Therefore, the 30-day public comment period notice will be the only public comment notice published for this information collection.

Requests for copies of the information collection submission for OMB review may be accessed from the RegInfo.gov Web site at http://www.reginfo.gov/public/do/PRAMain or from the Department's Web site at http://edicsweb.ed.gov, by selecting the “Browse Pending Collections” link and by clicking on link number 4486. When you access the information collection, click on “Download Attachments ” to view. Written requests for information should be addressed to U.S. Department of Education, 400 Maryland Avenue, SW., LBJ, Washington, DC 20202-4537. Requests may also be electronically mailed to the Internet address ICDocketMgr@ed.gov or faxed to 202-401-0920. Please specify the complete title of the information collection and OMB Control Number when making your request.

Individuals who use a telecommunications device for the deaf (TDD) may call the Federal Information Relay Service (FIRS) at 1-800-877-8339.

[FR Doc. 2011-1791 Filed 1-26-11; 8:45 am]

BILLING CODE 4000-01-P